ENVIRONMENTAL PROTECTION AGENCY

[FRL-6975-4]

Adequacy Status of Indiana and Kentucky Ozone Attainment Demonstration for Transportation Conformity Purposes for the Louisville Area

AGENCY: Environmental Protection Agency (EPA).

ACTION: Notice of inadequacy.

SUMMARY: In this notice, EPA is notifying the public that it has found that the Louisville ozone attainment demonstration state implementation plans (SIP) submitted by Kentucky and Indiana on November 12, 1999, and November 15, 1999, respectively, do not contain motor vehicle emission budgets (MVEBs) that are adequate for transportation conformity purposes. The Louisville moderate one-hour ozone nonattainment area includes Clark and Floyd Counties, Indiana, and Jefferson County, Kentucky, and portions of Bullitt and Oldham Counties in Kentucky. EPA is finding the MVEBs inadequate because, due to a decision by the United States Court of Appeals, one of the significant assumptions of the demonstration has changed. The SIP submittal assumes that regional oxides of nitrogen ( NOX) reductions will be achieved in adjoining States by May 1, 2003. Due to the Court's decision, those reductions will not be assured to occur until May 31, 2004. Since the MVEBs in the SIP submittal could only be adequate if the reductions occur in 2003, they are now being found inadequate. Since the November 15, 1999, submittal does not contain adequate MVEBs, this attainment demonstration submittal cannot be used for future transportation conformity determinations.

FOR FURTHER INFORMATION CONTACT: Ryan Bahr, Environmental Engineer, Regulation Development Section (AR-18J), Air Programs Branch, Air and Radiation Division, United States Environmental Protection Agency, Region 5, 77 West Jackson Boulevard, Chicago, Illinois 60604, (312) 353-4366, bahr.ryan@epa.gov.

Dr. Robert Goodwin, Environmental Scientist, Regulatory Planning Section, Air Planning Branch, Air, Pesticides, and Toxics Management Division, United States Environmental Protection Agency, Region 4, 61 Forsyth St., SW., Atlanta, GA 30303, (404) 562-9044, goodwin.robert@epa.gov.

SUPPLEMENTARY INFORMATION:

Background

Today's notice is simply an announcement of a finding that EPA has already made. EPA Region 5 sent a letter to the Indiana Department of Environmental Management on April 20, 2001, stating that the submitted Louisville ozone attainment demonstration does not contain adequate MVEBs, and EPA Region 4 sent a similar letter to the Kentucky Division for Air Quality on April 20, 2001. This finding will also be announced on EPA's conformity website: http://www.epa.gov/otaq/traq. (Once at EPA's Transportation and Air Quality Center website, click on the “Conformity” button and look for “Adequacy Review of SIP Submissions for Conformity.”)

Transportation conformity is required by section 176(c) of the Clean Air Act. EPA's conformity rule requires that transportation plans, programs, and projects conform to state air quality implementation plans and establishes the criteria and procedures for determining whether or not they do. Transportation conformity to a SIP means that transportation activities will not produce new air quality violations, worsen existing violations, or delay timely attainment of the national ambient air quality standards.

The criteria by which EPA determines whether a SIP's MVEBs are adequate for conformity purposes are outlined in 40 CFR 93.118(e)(4). Please note that an adequacy review is separate from EPA's completeness review, and it also should not be used to prejudge EPA's ultimate approval of the SIP. Even if EPA finds a motor vehicle emission budget adequate, the EPA may later disapprove the SIP.

EPA described the process for determining the adequacy of submitted SIP budgets in guidance (May 14, 1999, memorandum titled “Conformity Guidance on Implementation of March 2, 1999, Conformity Court Decision”). EPA followed this guidance in making this determination.

EPA is finding the MVEBs in the submitted Louisville attainment SIP inadequate because the associated SIP assumes that regional NOX reductions under the NOX SIP Call will be achieved in adjoining States by May 1, 2003. However, on August 30, 2000, the United States Court of Appeals for the D.C. Circuit issued an order extending the compliance date for the NOX SIP Call from May 1, 2003, to May 31, 2004. The effect of this ruling is that the regional NOX emissions reductions cannot be assumed to occur until 2004, and, therefore, 40 CFR 93.118(e)(4)(iv) cannot be satisfied by the submitted MVEBs.

Authority: 42 U.S.C. 7401-7671q.

Dated: April 26, 2001.
David A. Ullrich,
Acting Regional Administrator, Region 5.

Dated: April 20, 2001.
A. Stanley Meiburg,
Acting Regional Administrator, Region 4.

[FR Doc. 01-11410 Filed 5-3-01; 8:45 am]

BILLING CODE 6560-50-P